DEPARTMENT OF COMMERCE

National Oceanic and Atmospheric Administration (NOAA)

[Docket Number: 080513656-8657-01]

Office of Oceanic and Atmospheric Research; NOAA Science Advisory Board's Ecosystem Sciences and Management Working Group

AGENCY: Office of Oceanic and Atmospheric Research (OAR), National Oceanic and Atmospheric Administration (NOAA), Department of Commerce (DOC).

ACTION: Notice of solicitation for members of the NOAA Science Advisory Board's Ecosystem Sciences and Management Working Group.

SUMMARY: The Under Secretary of Commerce for Oceans and Atmosphere requested the NOAA Science Advisory Board (SAB) to establish a standing working group to provide scientific advice and broad direction on NOAA's ecosystem related programs in the context of both national and international activities. The Ecosystem Sciences and Management Working Group (ESMWG) will focus on research, monitoring, and management components of NOAA's ecosystem portfolio, as well as the underlying observations and data management issues. The ESMWG will assist in establishing plans, assessing progress, and reviewing priorities on a continuing basis. The ESMWG will be composed of 10-12 scientists and leaders in the following disciplines as related to ecosystem sciences and management: social science, oceanography, living marine resources, sampling and remote sensing, and modeling. The SAB is requesting nominations for membership in the ESMWG.

DATES: Nominations must be received July 21, 2008.

ADDRESSES: Nominations should be submitted electronically to noaa.sab.ecosystem@noaa.gov, or mailed to: NOAA Science Advisory Board (SAB) c/o Dr. Cynthia Decker, 1315 East-West Highway-R/SAB, Silver Spring, Maryland 20910.

FOR FURTHER INFORMATION CONTACT: Dr. Cynthia Decker, 301-734-1156.

SUPPLEMENTARY INFORMATION: The complete Terms of Reference of this working group can be found on the NOAA Science Advisory Board Web site: http://www.sab.noaa.gov/working_groups/standing/docs/2008/ESMWG_TOR_FINAL.pdf.

At this time, the SAB is soliciting for up to twelve members in the following disciplines related to ecosystem sciences and management: social science, oceanography, living marine resources, sampling and remote sensing, and modeling. Members should have a credible science background, and an operational knowledge of federal agencies and interactions with state and local partners. Members will be appointed for three-year terms on a rolling and randomized basis with the opportunity for one additional term. The Working Group will convene 2-3 times per year.

The intent is to select the membership of the group from the suggested candidates; however, the SAB retains the prerogative to name members to the working group who were not nominated if it deems this necessary to achieve the desired balance. Once selected, the SAB will post the review panel members' names at http://www.sab.noaa.gov.

Nominations:

Anyone is eligible to nominate members of the working group. Self-nominations will be accepted. Nominations should provide: (1) The nominee's full name, title, institutional affiliation, and contact information; (2) the nominee's area(s) of expertise; and (3) a concise Curriculum Vitae (CV) or resume that covers education, experience, relevant publications and summarizes how this expertise addresses the ESMWG terms of reference.

Dated: May 16, 2008.
Mark E. Brown,
Chief Financial Officer, Office of Oceanic and Atmospheric Research, National Oceanic and Atmospheric Administration.

[FR Doc. E8-11415 Filed 5-20-08; 8:45 am]

BILLING CODE 3510-KD-P